PEACE CORPS

Notice of Information Collection

AGENCY: Peace Corps.

ACTION: Notice of information collection for review by OMB and public comment.

SUMMARY: In accordance with the Paperwork Reduction Act, this notice invites the public to comment on the collection of information by the Peace Corps and gives notice of the Peace Corps' intention to request Office of Management and Budget (OMB) approval of the information collection. The Peace Corps' Office of Strategic Information, Research and Planning wishes to conduct focus groups with Returned Peace Corps Volunteers (RPCVs) about their post-service transition, post-service education and career, and their third goal activities of promoting a better understanding of other peoples on the part of Americans. The data will be used to assess the range and type of services available to RPCVs and to support accurate interpretation of Agency level data.

DATES: Submit comments on or before February 2, 2009.

ADDRESSES: Comments should be addressed to Susan Jenkins, Office of Strategic Information, Research and Planning, Peace Corps, 1111 20th Street, NW., Washington, DC 20526. Dr. Jenkins can be contacted by telephone at 202-692-1241 or e-mail at SJenkin2@peacecorps.gov. E-mail comments must be made in text and not in attachments.

FOR FURTHER INFORMATION CONTACT: Susan Jenkins, Office of Strategic Information, Research and Planning, Peace Corps, 1111 20th Street, NW., Washington, DC 20526.

SUPPLEMENTARY INFORMATION: Title: Focus Groups with Returned Peace Corps Volunteers.

Need for and Use of This Information: The third strategic goal in the Peace Corps' 2009 to 2014 strategic plan, is to “Foster outreach to Americans through agency programs that assist Volunteers and Returned Peace Corps Volunteers to help promote a better understanding of other peoples on the part of Americans.” The Agency meets this goal through programs that encourage outreach to the American public through a variety of means such as personal interaction, electronic communication, and cross-cultural education curricula. The challenge for the Peace Corps in advancing such outreach is to ensure that the programs are publicized and on target in matching Volunteers and RPCVs with appropriate audiences, and that the agency uses technology effectively. The agency administers a Volunteer survey and project specific surveys to gather information about how active Volunteers support this goal. But, there is no similar mechanism for gathering such information from Returned Volunteers. These focus groups will be conducted to test the assumption that promoting a better understanding of the cultures in which they served is a lifelong commitment that becomes integrated into their lives but that RPCVs do not necessarily report such interactions to the agency. These focus groups will provide an opportunity for in-depth discussion with RPCVs about the long-term outcomes of their Service on their promotion of a better understanding of other peoples on the part of Americans. The information gathered will be used by the Office of Strategic Information, Research and Planning to identify the breadth and scope of third core goal activities by Returned Volunteers.

Respondents: 96.

Respondents' Obligation To Reply: Voluntary.

Burden on the Public:

a. Annual reporting burden: 144 hours.

b. Annual recordkeeping burden: 0 hours.

c. Estimated average burden per response: 90 minutes.

d. Frequency of response: One-time.

e. Estimated number of respondents: 96.

f. Estimated cost to respondents: $0.00/$0.00.

Dated: November 24, 2008.
Wilbert Bryant,
Associate Director for Management.

[FR Doc. E8-28635 Filed 12-1-08; 8:45 am]

BILLING CODE 6015-01-P